DEPARTMENT OF THE INTERIOR

Bureau of Reclamation

Water Exchange Agreements With Mendota Pool Group, 2003-2013, CA

AGENCY: Bureau of Reclamation, Interior.

ACTION: Notice of intent to prepare an environmental impact statement (EIS).

SUMMARY: The Department of the Interior, Bureau of Reclamation (Reclamation), will prepare an EIS, pursuant to the National Environmental Policy Act (NEPA), to evaluate the proposed exchange of up to 25,000 acre-feet of water per year over a 10-year period with the Mendota Pool Group. Alternatives will be identified and evaluated on the basis of criteria adopted to maintain environmental quality and provide for continued agricultural production. The purpose of the proposed project is to provide water to irrigable lands on Mendota Pool Group properties in Westlands Water District and San Luis Water District to offset substantial reductions in contract water supplies attributable to the Central Valley Project Improvement Act (CVPIA), the Endangered Species Act listings and regulations, and new Delta water quality rules. Providing this water would enable the Mendota Pool Group farmers to maintain production on historically irrigated lands. The project is not intended to increase the amount of water for farming activities, but would replace some of the contract water lost because of increased environmental regulations that restrict water deliveries south of the export pumps at Tracy, California.

Through initial scoping meetings, Reclamation will seek public input on the scope of the project and potential alternatives, or combination of alternatives, for consideration in the EIS.

There are no known Indian Trust Assets or environmental justice issues associated with the proposed action.

DATES: One scoping meeting will be held to solicit comments from interested parties to assist in determining the scope of the environmental analysis and to identify the significant issues related to this proposed action. The meeting is scheduled for Monday, January 14, 2002, 6 to 8 p.m., in Mendota, California.

Submit written comments on the proposed project scope on or before January 28, 2002.

ADDRESSES: The scoping meeting will be held at the City Council Chambers, Mendota City Hall, 643 Quince St., Mendota, CA 93640; telephone: (559) 655-3291.

Written comments on the scope of the alternatives and impacts to be considered should be sent to Mrs. Judi Tapia, Bureau of Reclamation, South-Central California Area Office, 1243 N Street, Fresno CA 93721-1813; by telephone at (559) 487-5179 (TDD 559-487-5933); by E-mail at jtapia@mp.usbr.gov; or faxed to (559) 487-5397.

FOR FURTHER INFORMATION CONTACT: Mrs. Tapia, Environmental Specialist, at the above address or by telephone at (559) 487-5179 (TDD 559-487-5933).

SUPPLEMENTARY INFORMATION: The Delta export service area of the Central Valley Project (CVP) has total contractual obligations and delivery losses of approximately 3.45 million acre-feet per year. The theoretical maximum pumping capability of CVP facilities serving this area is approximately 3.09 million acre-feet per year. Available supplies are apportioned under a hierarchy of allocation in which agricultural water service contracts, totaling about 1.85 million acre-feet per year, are provided water only after all other obligations are met. Implementation of the CVPIA provided water only after all other obligations are met. Implementation of the CVPIA (1992), Endangered Species Act (1993-1995), and revised Bay-Delta water quality standards has further reduced pumping capabilities and water supplies available to agricultural contractors. Currently these parties can expect to receive a long-term average supply of about 50 to 55 percent of contract water as compared to a pre-1992 average of 88 to 92 percent.

The project proponents propose to pump an average of 27,000 acre-feet of groundwater per year over the 10-year period from non-CVP wells located adjacent to the Mendota Pool into the Mendota Pool to make up for a portion of the annual shortfall in the contract water to be delivered via the CVP. The actual quantity of water to be pumped would depend on whether the year is classified as wet (0 acre-feet per year), normal (31,600 acre-feet per year), or dry (40,000 acre-feet per year). Of the total quantity pumped, a maximum of 25,000 acre-feet per year would be exchanged with Reclamation. This water would be made available to Reclamation in the Mendota Pool to offset their existing water contract obligations. In exchange, Reclamation would make an equivalent amount of CVP water available to the members of the Mendota Pool Group for irrigation purposes at Check 13 of the Delta-Mendota Canal. Any quantity of water pumped beyond the 25,000 acre-feet exchanged would be delivered directly to other lands that are presently under irrigation around the Pool. As part of this program, a maximum of 12,000 acre-feet per year of groundwater would be pumped from deep wells (i.e., screened interval greater than 130 feet deep), with the remainder coming from shallow wells (i.e., screened interval less than 130 feet deep). The proposed project will comply with the terms specified in the Settlement Agreement for Mendota Pool Transfer Pumping Program, effective January 1, 2001.

The primary environmental resource issues that have been identified, and that will be evaluated in the EIS, include groundwater levels, groundwater quality, subsidence, surface water quality, and biological resources.

The environmental review will be conducted pursuant to NEPA, the Endangered Species Act, and other applicable laws, to analyze the potential environmental impacts of implementing each of the feasible alternatives. All reasonable alternatives as required by NEPA and its implementing regulations will be examined. The final Environmental Impact Report, certified by Westlands Water District in 1998, will provide a useful beginning, as will subsequent environmental reports and ongoing sampling activities, thus allowing Reclamation to expedite completion of the analysis. Alternatives, with their related designs and cost estimates identified in the earlier document, will be re-evaluated and updated to reflect current conditions. Public input on additional alternatives, or combinations of alternatives, that should be considered will be sought through the initial scoping meeting. In addition, public input will be sought on the criteria that should be used to carry forward alternatives, or combination of alternatives, for further consideration.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment letter. We will make all submissions from organizations or businesses, and from individuals identifying themselves as representatives or officials or organizations or businesses, available for public disclosure in their entirety.

Dated: December 3, 2001.
Frank Michny,
Regional Environmental Officer.

[FR Doc. 02-33 Filed 1-2-02; 8:45 am]

BILLING CODE 4310-MN-M